SECURITIES AND EXCHANGE COMMISSION

Submission for OMB Review; Comment Request

Upon written request, copies available from: Securities and Exchange Commission, Office of Filings and Information Services, Washington, DC 20549.

Extension:

Part 257—SEC File No. 270-252—OMB Control No. 3235-0306.

Notice is hereby given that, pursuant to the Paperwork Reduction Act of 1995 (44 U.S.C. 3501 et seq.), the Securities and Exchange Commission (``Commission'') has submitted to the Office of Management and Budget (``OMB'') a request for extension of the matters relating to the previously approved collections of information discussed below.

Part 257 (17 CFR part 257) under the Public Utility Holding Company Act of 1935, as amended (``Act''), 15 U.S.C. 79, et seq., generally mandates the preservation, and provides for the destruction, of books and records of registered public utility holding companies subject to rule 26 under the Act and service companies subject to rule 93. Part 257 prescribes which records must be maintained for regulatory purposes and which media methods may be used to maintain them. Further, it sets a schedule for destroying particular documents or classes of documents.

The Commission estimates that there is an associated recordkeeping burden of 29 hours in connection with the record preservation programs administered by registered holding companies under part 257 (29 recordkeepers × 1 hour = 29 burden hours). In addition to the costs associated with the burden hours, the annual non-labor cost associated with complying with part 257 is estimated at $2,000 for each registered holding company system. The total estimated annual non-labor recordkeeping burden is $58,000 (29 recordkeepers × $2,000 = $58,000).

It is mandatory that records that are subject to part 257 under the Act be maintained by the holding companies and their service companies for the prescribed period. There is no requirement to keep the information related to part 257 confidential, because it is public information. It should be noted that an agency may not conduct or sponsor, and a person is not required to respond to, a collection of information unless it displays a currently valid control number.

General comments regarding the above information to the following persons: (i) Desk Officer for the Securities and Exchange Commission, Office of Information and Regulatory Affairs, Office of Management and Budget, Room 10102, New Executive Office Building, Washington, DC 20503, or e-mail to: David_Rostker@omb.eop.gov; and (ii) R. Corey Booth, Director/Chief Information Officer, Office of Information Technology, Securities and Exchange Commission, 450 5th Street, NW., Washington, DC 20549. Comments must be submitted to OMB within 30 days of this notice.

Dated: November 4, 2004.
Margaret H. McFarland,
Deputy Secretary.

[FR Doc. E4-3168 Filed 11-15-04; 8:45 am]

BILLING CODE 8010-01-P